DEPARTMENT OF COMMERCE

International Trade Administration

[A-583-816]

Notice of Extension of Time Limit for Preliminary Results of Antidumping Duty Administrative Review: Certain Stainless Steel Butt-Weld Pipe Fittings from Taiwan

AGENCY: Import Administration, International Trade Administration, Department of Commerce.

EFFECTIVE DATES: January 22, 2002.

FOR FURTHER INFORMATION CONTACT: Alex Villanueva, AD/CVD Enforcement Group III, Office 9, Import Administration, International Trade Administration, U.S. Department of Commerce, 14th Street and Constitution Avenue, N.W., Washington, D.C. 20230; telephone: (202) 482-0408.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (the Department's) regulations are to 19 CFR part 351 (April 2001).

Background

On June 11, 2001, the Department published a notice of initiation of the administrative review of the antidumping duty order on Stainless Steel Butt-Weld Pipe Fittings from Taiwan, covering the period June 1, 2000 through May 31, 2001 (66 FR 31203). The preliminary results are currently due no later than March 1, 2002.

Extension of Time Limit for Preliminary Results

Section 751(a)(3)(A) of the Act states that the administering authority shall make a preliminary determination within 245 days after the last day of the month in which occurs the anniversary of the date of publication of the order, finding, or suspension agreement for which the review under paragraph (1) is requested. If it is not practicable to complete the review within the foregoing time, the administering authority may extend that 245 day period to 365 days. Completion of the preliminary results within the 245 day period is impracticable for the following reasons: (1) This review involves certain complex United States indirect selling expenses including, but not limited to, financial statements and interest expenses; (2) this review involves certain complex Constructed Export Price (CEP) adjustments including, but not limited to, CEP profit and CEP offset; (3) this review involves certain complex warehouse expenses in the United States including, but not limited to, inland freight and inventory.

Because it is not practicable to complete this review within the time specified, we are extending the time limit for the preliminary results of the administrative review of stainless steel butt-weld pipe fittings from Taiwan by 120 days, in accordance with section 751(a)(3)(A) of the Act.

The deadline for issuing the preliminary results is extended from March 1, 2002 to June 29, 2002. Because this date falls on a weekend, the Department will issue its preliminary results on July 1, 2002.

Dated: January 14, 2002.
Joseph A. Spetrini,
Deputy Assistant Secretaryfor Import Administration, Group III.

[FR Doc. 02-1520 Filed 1-18-02; 8:45 am]

BILLING CODE 3510-22-S